DEPARTMENT OF THE INTERIOR

Bureau of Land Management

[AK940-1310EI-241A]

National Petroleum Reserve—Alaska Oil and Gas Lease Sale 2004

AGENCY: Bureau of Land Management, Interior.

ACTION: Notice of National Petroleum Reserve—Alaska Oil and Gas Lease Sale 2004.

SUMMARY: National Petroleum Reserve—Alaska (NPR-A); Notice of Sale and Notice of Availability of the Detailed Statement of Sale for Oil and Gas Lease Sale 2004 in the NPR-A.

The Bureau of Land Management, Alaska State Office will be holding an oil and gas lease sale bid opening for the Northwest Study Area and a small, previously unoffered portion of the Northeast Study Area of the NPR-A.

DATES: The oil and gas lease sale bid opening will be held at 8 a.m. on Wednesday, June 2, 2004, at the Wilda Marston Theatre in the Z. J. Loussac Public Library, 3600 Denali Street, Anchorage, Alaska.

FOR FURTHER INFORMATION CONTACT: Colleen McCarthy at (907) 271-3128.

SUPPLEMENTARY INFORMATION: All bids must be submitted by sealed bid in accordance with the provisions identified in the Detailed Statement of Sale and received at the Bureau of Land Management, Alaska State Office, 222 W. 7th, #13, Anchorage, Alaska 99513-7599 no later than 3:45 p.m., Friday, May 28, 2004.

The Detailed Statement of Sale for Sale 2004 may be obtained by written request to the Public Information Center, Bureau of Land Management, Alaska State Office, 222 W. 7th, #13, Anchorage, Alaska 99513-7599 or by telephone at (907) 271-5960. It will include, among other things, a description of the areas to be offered for lease, the lease terms, conditions and special stipulations and required operating procedures, and how and where to submit bids. It will be available to the public immediately after publication of this notice.

Peter Ditton,
Acting State Director, Alaska State Office, Bureau of Land Management.

[FR Doc. 04-9501 Filed 4-26-04; 8:45 am]

BILLING CODE 4310-JA-U